DEPARTMENT OF DEFENSE

Department of the Army; Corps of Engineers

Notice of Availability of the Final Supplement II to the Final EIS (FSII) for the Proposed New Water Supply Reservoir Located in Williamson and Johnson Counties, for the City of Marion, IL

AGENCY: U.S. Army Corps of Engineers, DoD.

ACTION: Notice of availability.

SUMMARY: The U.S. Army Corps of Engineers is issuing this notice to advise the public that the Final Supplement II to the Final Environmental Impact Statement has been completed for the City of Marion, Illinois, and is available for review and comment.

DATES: In accordance with the National Environmental Policy Act (NEPA), we have filed the FSII with the Environmental Protection Agency (EPA) for publication of their notice of availability in the Federal Register. The EPA notice officially starts the 30-day review period for this document. It is the goal of the Corps of Engineers to have the COE notice published on the same date as the EPA notice. However, if that does not occur, the date of the EPA notice will determine the closing date for comments on the FSII. Comments on the FSII must be submitted to the address below under For Further Information Contact and must be received no later than 5 p.m. Eastern Standard Time, Monday, February 27, 2006.

ADDRESSES: The Final Supplement II to the Final EIS can be viewed online at http://www.lrl.usace.army.mil/orf/default.asp (follow the link to Notices/Illinois/Marion FSII Vol. I and Marion FSII Vol. II). Copies of the Final Supplement II to the Final Environmental Impact Statement are also available for review at the following library:

Marion Carnegie Library, 206 South Market Street, Marion, IL, 62959.

FOR FURTHER INFORMATION CONTACT: Mr. Greg McKay, Project Manager, Regulatory Branch, U.S. Army Corps of Engineers, Louisville District, P.O. Box 59, Louisville, KY 40201-0059, ATTN: CELRL-OP-FS, (502)-315-6685, Telephone: 502-315-6685.

SUPPLEMENTARY INFORMATION: The proposed action by the City of Marion is a new 1,172-acre water supply reservoir located in Williamson and Johnson Counties, Illinois, near the community of Creal Springs. The Lake of Egypt Water District has an agreement in principle with the City of Marion to purchase water if a new lake on Sugar Creek is built. Two pipelines would be constructed for transport of water for treatment.

As part of the Corps review process, this Final Supplement II to the Final Environmental Impact Statement (FSII) has been prepared. The Louisville District prepared a Draft EIS and released it to the public for comment in October 1994. A public hearing was held in December 1994. A Final EIS was prepared and released to the public for comment in July 1995. A Draft Supplement I was prepared and released to the public for comment in February 1996. A Final Supplement I to the Final EIS was prepared and released to the public for comment in May 1996. A Draft Supplement II was prepared and released to the public for comment in November 2000, with a public hearing held in March 2001.

This Final Supplement II to the Final EIS examines single source options as well as combinations of separate alternatives to satisfy current and future water needs of Marion and the Lake of Egypt Water District as separate entities. This Final Supplement II incorporates the Draft and Final EIS, the Draft and Final Supplement I, and the Draft Supplement II by reference.

Dated: January 26, 2006.
David F. Dale, Jr.,
P.E., PMP, Deputy District Engineer.

[FR Doc. E6-1390 Filed 2-1-06; 8:45 am]

BILLING CODE 3710-92-P